DEPARTMENT OF JUSTICE

Notice of Lodging of Proposed Consent Decree Under the Toxic Substances Control Act

On September 30, 2024, the Department of Justice lodged a proposed Consent Decree (the “Consent Decree”) with the District Court of the Southern District of New York in a lawsuit entitled United States of America v. Rose Demolition & Carting Inc., Civil Action No. 24-7375.

In this action, the United States seeks, injunctive relief from Rose Demolition & Carting Inc., in connection with the defendant's unlawful work practices during renovations governed by the Renovation, Repair, and Painting Rule, 40 CFR part 745, a rule promulgated under Toxic Substances Control Act (“TSCA”). The proposed consent decree resolves the United States' claims, requires Rose Demolition & Carting Inc. to pay a $100,000 penalty, and imposes injunctive relief.

The publication of this notice opens the public comment on the proposed settlement. Comments should be addressed to the Assistant Attorney General, Environment and Natural Resources Division, and should refer to United States of America v. Rose Demolition & Carting Inc., DJ #90-5-1-1-11139. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be examined and downloaded at this Justice Department website: https://www.justice.gov/enrd/consent-decrees. If you require assistance accessing the Consent Decree, you may request assistance by email or by mail to the addresses provided above for submitting comments.

Eric D. Albert,
Assistant Section Chief, Environmental Enforcement Section, Environment and Natural Resources Division.

[FR Doc. 2024-23034 Filed 10-8-24; 8:45 am]

BILLING CODE P